DEPARTMENT OF TRANSPORTATION

Federal Aviation Administration

Twenty Ninth Meeting: Special Committee 213 (SC 213)

AGENCY: Federal Aviation Administration (FAA), U.S. Department of Transportation (DOT).

ACTION: Twenty ninth meeting notice of Special Committee 213.

SUMMARY: The FAA is issuing this notice to advise the public of the twenty ninth meeting of the Special Committee 213.

DATES: The meeting will be held July 21st-23rd from 8:30 a.m.-5:00 p.m.

ADDRESSES: The meeting will be held at Boeing 2-122 Building, Conference Room 102L2, North End of Boeing Field, 7755 East Marginal Way S, Seattle, WA 98108, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, RTCA, Inc., jiversen@rtca.org, (202) 330-0662.

SUPPLEMENTARY INFORMATION: Pursuant to section 10(a)(2) of the Federal Advisory Committee Act (Pub. L. 92-463, 5 U.S.C., App.), notice is hereby given for a meeting of the Special Committee 213. The agenda will include the following:

Tuesday, July 21, 2015

1. Plenary discussion (sign-in at 08:00 a.m.)

2. Introductions and administrative items

3. Review and approve minutes from last full plenary meeting

4. Review of terms of reference (if needed)

5. WG1, WG2 and WG3 status updates

6. Industry updates

7. SVGS Draft AC Discussion

8. WG2 Draft Document

Wednesday, July 22, 2015

1. Plenary discussion

2. WG2 Draft Document

3. WG3 Draft Document

4. WG1 Discussion

Thursday, July 23

1. Plenary discussion

2. WG2 Draft Document

3. Administrative items (new meeting location/dates, action items etc.)

4. Introductions

5. Agenda Overview

6. Approval of Meeting #14 Minutes

7. Overview of Planned Work Program for the Week

8. FRAC Resolution for DO-283A Update

9. Plenary Review/Discussion

10. Planned Work Schedule

11. Review of FRAC comments/worksheet, and committee resolution of comments

12. Approval of the document to go to the PMC

13. 9:00 a.m. to 4:30 p.m. each day (start and end times may be adjusted after opening plenary session)

14. Other Business

15. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 24, 2015.
Latasha Robinson,
Management & Program Analyst, NextGen, Program Oversight and Administration, Federal Aviation Administration.

[FR Doc. 2015-16054 Filed 6-29-15; 8:45 am]

BILLING CODE 4910-13-P